DEPARTMENT OF THE INTERIOR

National Park Service

[NPS-WASO-NRNHL-15399; PPWOCRADI0, PCU00RP14.R50000]

National Register of Historic Places; Notification of Pending Nominations and Related Actions

Nominations for the following properties being considered for listing or related actions in the National Register were received by the National Park Service before March 22, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 28, 2014. Before including your address, phone number, email address, or other personal identifying information in your comment, you should be aware that your entire comment—including your personal identifying information—may be made publicly available at any time. While you can ask us in your comment to withhold your personal identifying information from public review, we cannot guarantee that we will be able to do so.

Dated: March 28, 2014.
J. Paul Loether,
Chief, National Register of Historic Places/ National Historic Landmarks Program.

DISTRICT OF COLUMBIA

District of Columbia

Bunker Hill Elementary School (Public School Buildings of Washington, DC MPS) 1401 Michigan Ave. NE., Washington, 14000186

FLORIDA

Duval County

American Red Cross Volunteer Life Saving Corps Station, 2 Ocean Front North, Jacksonville Beach, 14000187

NEVADA

Storey County

Hampton—Sullivan House, 168 N. B St., Virginia City, 14000188

NEW JERSEY

Bergen County

St. Paul's Episcopal Church, 113 Engle St., Englewood, 14000189

Somerset County

Brook Theater, The, 10 Hamilton St., Bound Brook Borough, 14000190

NEW YORK

Fulton County

Northville Historic District, Roughly Main, Division & Bridge Sts., Northville, 14000191

Lewis County

Collinsville Cemetery, 4061 East Rd., West Turin, 14000192

Onondaga County

South Salina Street Downtown Historic District (Boundary Increase), 200, 300, & E. side of 400 blks. of Warren, 205-209 Jefferson, 400 blk. & 500-550 S. Salina Sts., Syracuse, 14000193

PENNSYLVANIA

Allegheny County

Strip Historic District, Roughly bounded by former Pennsylvania RR. yards, Liberty Ave., Railroad, 22nd & 15th Sts., Pittsburgh, 14000194

Lancaster County

Stehli Silk Mill, 701 Martha Ave. (Manheim Township), Lancaster, 14000195

WISCONSIN

Florence County

Fulmer, David M. and Lottie, House, 209 Central Ave., Florence, 14000196

Webb, Robert B. and Estelle J., House, 200 Central Ave., Florence, 14000197

[FR Doc. 2014-08096 Filed 4-10-14; 8:45 am]

BILLING CODE 4312-51-P